ENVIRONMENTAL PROTECTION AGENCY

[FRL-8262-1]

Science Advisory Board Staff Office; Notification of an Upcoming Teleconference of the Ecological Processes and Effects Committee

AGENCY: Environmental Protection Agency (EPA).

ACTION: Notice.

SUMMARY: The EPA Science Advisory Board (SAB) Staff Office announces a public teleconference of the SAB Ecological Processes and Effects Committee to discuss a draft report on advancing the science and application of ecological risk assessment.

DATES: The public teleconference will be held on January 26, 2007, from 1 p.m. to 3 p.m. (eastern standard time).

FOR FURTHER INFORMATION CONTACT: Members of the public who wish to obtain the call-in number and access code for the teleconference may contact Dr. Thomas Armitage, Designated Federal Officer (DFO), by mail at EPA SAB Staff Office (1400F), U.S. EPA, 1200 Pennsylvania Avenue, NW., Washington, DC 20460; by telephone at (202) 343-9995; or by e-mail at armitage.thomas@epa.gov. General information about the SAB may be found on the SAB Web site at http://www.epa.gov/sab.

SUPPLEMENTARY INFORMATION: Pursuant to the Federal Advisory Committee Act, Public Law 92-463, notice is hereby given that the SAB Ecological Processes and Effects Committee will hold a public teleconference to discuss a draft advisory report to EPA on advancing the science and application of ecological risk assessment. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: The SAB Ecological Processes and Effects Committee is conducting a study to provide advice to EPA on advancing the science and application of ecological risk assessment in environmental decision making. To gather information for developing an advisory report, the Committee held a public workshop on February 7-9, 2006 on the state of the practice of ecological risk assessment. Background information on the workshop and a public teleconference held on July 12, 2006 to discuss a workshop summary document was provided in Federal Register notices published on September 8, 2005 (70 FR 53360) and June 20, 2006 (71 FR 35421). The SAB workshop summary document, a draft advisory report, and a teleconference agenda will be posted on the SAB Web site provided above prior to the teleconference.

Procedures for Providing Public Input: The SAB Staff Office accepts written public statements of any length, and accommodates oral public statements whenever possible. The SAB Staff Office expects that public statements presented at SAB meetings will not repeat previously submitted oral or written statements. Oral Statements: In general, individuals or groups requesting an oral presentation at a teleconference meeting will be limited to three minutes per speaker with no more than a total of fifteen minutes for all speakers. Interested parties should contact the DFO, contact information provided above, in writing via e-mail at least 10 days prior to the scheduled teleconference in order to be placed on the public speaker list. Speakers should provide an electronic copy of their statements to the DFO for distribution to interested parties and participants in the meeting. Written Statements: Written statements should be received in the SAB Staff Office at least seven days before the scheduled teleconference so that the information may be made available to the Panel for their consideration. Written statements should be supplied to the DFO at the address and contact information provided above in the following formats: one hard copy with original signature, and one electronic copy via e-mail (acceptable file format: Adobe Acrobat, WordPerfect, Word, or Rich Text files (in IBM-PC/Windows 98/2000/XP format).

Meeting Accommodations: Individuals requiring special accommodation to access the teleconference should contact the appropriate DFO at the phone number or e-mail address noted above at least five business days prior to the meeting so that appropriate arrangements can be made.

Dated: December 20, 2006.
Vanessa T. Vu,
Director, EPA Science Advisory Board Staff Office.

[FR Doc. E6-22145 Filed 12-26-06; 8:45 am]

BILLING CODE 6560-50-P